DEPARTMENT OF ENERGY

Federal Energy Regulatory Commission

[Docket No. RP98-53-000]

Kinder Morgan Interstate Gas Transmission, LLC; Notice of Informal Settlement Conference

July 20, 2001.

An informal settlement conference in the above docket will be held on Tuesday, July 31, 2001, to address the outstanding ad valorem tax issues on the Kinder Morgan Interstate Gas Transmission, LLC system. The conference will be held in the offices of Kinder Morgan, 370 Van Gordon Street, Lakewood, Colorado, 80228. The informal settlement conference will begin at 10 a.m.

All interested parties in the above docket are requested to attend the informal settlement conference. If a party has any questions regarding the conference, please call Richard Miles, the Director of the Commission's Dispute Resolution Service on 1 877 FERC ADR (337-2237) or 202/208-0702 and his e-mail address is richard.miles@ferc.fed.us or Steven Rothman on 202/208-2278 and his e-mail address is steven.rothman@ferc.fed.us. If you plan on attending the conference, please contact Ben Breland at Kinder Morgan by fax at 303-763-3116.

David P. Boergers,
Secretary.

[FR Doc. 01-18511 Filed 7-24-01; 8:45 am]

BILLING CODE 6717-01-P